DEPARTMENT OF THE INTERIOR

Bureau of Land Management

[CO-700-00-0777-XQ-1784]

Southwest Resource Advisory Council Meeting

AGENCY: Bureau of Land Management, Interior.

ACTION: Notice; Southwest Resource Advisory Council Meeting.

SUMMARY: Notice is hereby given that the Southwest Resource Advisory Council (Southwest RAC) will meet in May, 2000 in Gunnison, Colorado.

DATES: The meeting will be held on Thursday, May 11, 2000.

ADDRESSES: For additional information, contact Roger Alexander, Bureau of Land Management, Southwest Center, 2465 South Townsend Avenue, Montrose, Colorado 81401; phone 970-240-5335; TDD 970-240-5366; e-mail Roger_Alexander@co.blm.gov.

SUPPLEMENTARY INFORMATION: The May 11, 2000 meeting will be held at the Gunnison County Fairgrounds Multipurpose Building, 275 South Spruce Street in Gunnison, Colorado. The meeting will begin at 9:00 a.m. and at approximately 4:30 p.m. The morning agenda will focus on the implementation of BLM Colorado Standards for public land health and Guidelines for livestock grazing and the Gunnison Sage Grouse Conservation Plan. General public comment is scheduled for 9:15 a.m. A field trip to nearby grazing allotments is scheduled during the afternoon session. The public is invited to accompany the RAC on the field trip but will need to provide their own transportation; a four wheel drive vehicle is recommended.

Summary minutes for Council meetings are maintained in the Southwest Center Office and on the World Wide Web at http://www.co.blm.gov/mdo/mdo_sw_rac.htm and are available for public inspection and reproduction within thirty (30) days following each meeting.

Dated: March 23, 2000.
Roger Alexander,
Public Affairs Specialist.

[FR Doc. 00-8192 Filed 4-3-00; 8:45 am]

BILLING CODE 4310-JB-P